SECURITIES AND EXCHANGE COMMISSION

[Release No. 34-46577; File No. S7-12-02]

Final Data Quality Guidelines

AGENCY: Securities and Exchange Commission.

ACTION: Notice of availability of final guidelines.

SUMMARY: The Securities and Exchange Commission has posted on its Web site at http://www.sec.gov its final data quality assurance guidelines. The guidelines describe the Commission's procedures for ensuring and maximizing the quality of information before it is disseminated to the public, and the procedures by which an affected person may obtain correction, where appropriate, of disseminated information that does not comply with the guidelines.

FOR FURTHER INFORMATION CONTACT: David R. Fredrickson, Assistant General Counsel, Office of General Counsel, Securities and Exchange Commission, 450 5th Street, NW., Washington, DC 20549-0606, (202) 942-0890.

Dated: October 1, 2002.
Margaret H. McFarland,
Deputy Secretary.

[FR Doc. 02-25362 Filed 10-4-02; 8:45 am]

BILLING CODE 8010-01-P